DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northeast Illinois Regional Commuter Railroad Corporation (Metra)

[Waiver Petition Docket Number FRA-2003-16891]

The Northeast Illinois Regional Commuter Railroad Corporation (Metra) seeks a waiver of compliance from certain provisions of the Railroad Operating Practices, 49 CFR Part 218. Specifically, Metra requests relief from the requirements of 49 CFR 218.25, Workers on a Main Track, at Amtrak's Chicago Union Station.

Metra operates passenger trains out of the north side of the Chicago Union Station, which were formally operated by the Milwaukee Road. In the past, Metra conducted its operations under the conditions of waiver RSOR 82-1, which had been previously granted to the Milwaukee Road on May 24, 1982. This waiver provided relief from the requirements of § 218.27(c) and (e) at the Chicago Union Station on tracks 1-3-5-7-9-11 and 13, for the Chicago, Milwaukee, St Paul and Pacific Railroad Company. That waiver prevented enginemen from coupling to equipment until a carman had assured the engineer that the 480-volt standby cable had been disconnected.

It allowed carmen to plug and unplug the 480-volt standby cable to the equipment after the engine has been coupled to the equipment. It required a yellow light to be displayed from the north end marker bracket on the last car of the train, platform side, prior to connecting the standby cable. An engineman was prohibited from restoring AC power to the train from the head end, until the yellow light was removed. The reason the Milwaukee Road requested the relief was to avoid filling the area under Union Station with diesel fumes. They stated that the time it would take to establish and/or remove blue signal protection was too long.

In early December 2003, Amtrak changed the status of the aforementioned station tracks from other than main track to main track, thereby voiding the provisions of the original waiver. Blue signal protection is now shifted from § 218.27, Workers on Other Than Main Track, to § 218.25, Workers on Main Track.

Metra is requesting FRA to consider allowing the provisions of the old Milwaukee Road waiver to be expanded to include the provisions of § 218.25 for all stub-ended tracks at Chicago Union Station. This will permit the railroad to connect and disconnect standby power to the cab car or locomotive end of the train(s) which are at or near the bumping post of the former “other than main track,” when they are in the same position on the new stub ended tracks.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-16891) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on May 17, 2004.
Grady C. Cothen, Jr.,
Acting Associate Administrator for Safety.

[FR Doc. 04-11590 Filed 5-20-04; 8:45 am]

BILLING CODE 4910-06-P